ENVIRONMENTAL PROTECTION AGENCY

40 CFR Part 52

[EPA-R07-OAR-2022-0880; FRL-10388-02-R7]

Air Plan Approval; MO; Marginal Nonattainment Plan for the St. Louis Area for the 2015 8-Hour Ozone Standard

AGENCY: Environmental Protection Agency (EPA).

ACTION: Final rule.

SUMMARY: The Environmental Protection Agency (EPA) is taking final action to approve a State Implementation Plan (SIP) revision submitted by the Missouri Department of Natural Resources (MoDNR) on September 8, 2021, and supplemented on April 8, 2022, as meeting the Marginal nonattainment area requirements for the 2015 8-hour ozone National Ambient Air Quality Standard (NAAQS or standard) for the Missouri portion of the St. Louis, MO-IL nonattainment area (“St. Louis area” or “area”). The EPA is taking this action pursuant to the Clean Air Act (CAA or Act).

DATES: This final rule is effective on March 9, 2023.

ADDRESSES: The EPA has established a docket for this action under Docket ID No. EPA-R07-OAR-2022-0880. All documents in the docket are listed on the www.regulations.gov website. Although listed in the index, some information is not publicly available, i.e., CBI or other information whose disclosure is restricted by statute. Certain other material, such as copyrighted material, is not placed on the internet and will be publicly available only in hard copy form. Publicly available docket materials are available through www.regulations.gov or please contact the person identified in the FOR FURTHER INFORMATION CONTACT section for additional information.

FOR FURTHER INFORMATION CONTACT: Ashley Keas, Environmental Protection Agency, Region 7 Office, Air Quality Planning Branch, 11201 Renner Boulevard, Lenexa, Kansas 66219; telephone number: (913) 551-7629; email address: keas.ashley@epa.gov.

SUPPLEMENTARY INFORMATION: Throughout this document whenever “we,” “us,” or “our” is used, we mean EPA.

Table of Contents

I. What is being addressed in this document?

II. Have the requirements for approval of a sip revision been met?

III. What action is the EPA taking?

IV. Environmental Justice Considerations

V. Statutory and Executive Order Reviews

I. What is being addressed in this document?

On December 6, 2022, EPA proposed to approve a SIP revision submitted by the MoDNR on September 8, 2021, and supplemented on April 8, 2022, as meeting the Marginal nonattainment area requirements of CAA sections 172(c) and 182(a) for the 2015 8-hour ozone NAAQS for the Missouri portion of the St. Louis, MO-IL nonattainment area (87 FR 74573). The background and supporting information for our proposed approval are stated in the proposed action (87 FR 74573, December 6, 2022) and are not restated here. The public comment period for our proposed approval ended on January 6, 2022. During the public comment period, EPA received no comments.

II. Have the requirements for approval of a SIP revision been met?

The State submission has met the public notice requirements for SIP submissions in accordance with 40 CFR 51.102. The submission also satisfied the completeness criteria of 40 CFR part 51, appendix V. The State provided public notice on the September 8, 2021, SIP revision from April 26, 2021, to June 3, 2021, and held a public hearing on May 27, 2021. During the public comment period, the State received three comments from the EPA. The State responds to the comments in its submittal and made changes to the plan as a result of the comments. The State provided public notice on the April 8, 2022, SIP revision from December 27, 2021, to February 3, 2022, and held a public hearing on January 27, 2022. During the public comment period, the State received comments from various entities. The State addressed the comments in its submittal. Comments received on the April 8, 2022, submittal were not related to the updated 2017 nonattainment base year emissions inventory. In addition, as explained in the proposed rule, the revision meets the substantive SIP requirements of the CAA and implementing regulations.

III. What action is the EPA taking?

The EPA is taking final action to approve a SIP revision submitted by the MoDNR on September 8, 2021, and supplemented on April 8, 2022, as meeting the Marginal nonattainment area requirements of CAA section 182(a) for the 2015 8-hour ozone NAAQS for the Missouri portion of the St. Louis area. The EPA published the associated proposed rule on December 6, 2022 and received no comments during the public comment period (87 FR 74573).

IV. Environmental Justice Considerations

While EPA did not perform an area-specific environmental justice analysis for purposes of this action, due to the nature of the action being taken here, i.e. to merely approve emissions inventories and certifications regarding Missouri's fully approved permitting program as meeting the relevant plan requirements for Marginal nonattainment areas, as explained in the proposed rule, this action is expected to have no impact on air quality. For these reasons, this action is not expected to have a disproportionately high or adverse human health or environmental effects on a particular group of people.

V. Statutory and Executive Order Reviews

Under the Clean Air Act (CAA), the Administrator is required to approve a SIP submission that complies with the provisions of the Act and applicable Federal regulations. 42 U.S.C. 7410(k); 40 CFR 52.02(a). Thus, in reviewing SIP submissions, the EPA's role is to approve state choices, provided that they meet the criteria of the CAA. Accordingly, this action merely approves state law as meeting Federal requirements and does not impose additional requirements beyond those imposed by state law. For that reason, this action:

• Is not a significant regulatory action subject to review by the Office of Management and Budget under Executive Orders 12866 (58 FR 51735, October 4, 1993) and 13563 (76 FR 3821, January 21, 2011);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of the National Technology Transfer and Advancement Act (NTTA) because this rulemaking does not involve technical standards; and

• This action does not have disproportionately high and adverse human health or environmental effects on minority populations, low-income populations and/or indigenous peoples, as specified in Executive Order 12898 (59 FR 7629, February 16, 1994). The basis for this determination is contained in section VI of this action, “Environmental Justice Considerations.”

• In addition, the SIP is not approved to apply on any Indian reservation land or in any other area where EPA or an Indian tribe has demonstrated that a tribe has jurisdiction. In those areas of Indian country, the rule does not have tribal implications and will not impose substantial direct costs on tribal governments or preempt tribal law as specified by Executive Order 13175 (65 FR 67249, November 9, 2000).

• This action is subject to the Congressional Review Act, and the EPA will submit a rule report to each House of the Congress and to the Comptroller General of the United States. This action is not a “major rule” as defined by 5 U.S.C. 804(2).

• Under section 307(b)(1) of the CAA, petitions for judicial review of this action must be filed in the United States Court of Appeals for the appropriate circuit by April 10, 2023. Filing a petition for reconsideration by the Administrator of this final rule does not affect the finality of this action for the purposes of judicial review nor does it extend the time within which a petition for judicial review may be filed and shall not postpone the effectiveness of such rule or action. This action may not be challenged later in proceedings to enforce its requirements(see section 307(b)(2)).

List of Subjects in 40 CFR Part 52

Environmental protection, Air pollution control, Incorporation by reference, Intergovernmental relations, Oxides of nitrogen, Ozone, Volatile organic compounds.

Dated: January 30, 2023.
Meghan A. McCollister,
Regional Administrator, Region 7.

For the reasons stated in the preamble, the EPA amends 40 CFR part 52 as set forth below:

PART 52—APPROVAL AND PROMULGATION OF IMPLEMENTATION PLANS

1. The authority citation for part 52 continues to read as follows:

Authority: 42 U.S.C. 7401 et seq.

Subpart AA—Missouri

2. In § 52.1320, the table in paragraph (e) is amended by adding the entry “(85)” to read as follows:

§ 52.1320 Identification of plan.

* * * * *

(e) * * *

EPA-Approved Missouri Nonregulatory SIP Provisions
Name of nonregulatory SIP provision | Applicable geographic or nonattainment area | State submittal date | EPA approval date | Explanation
* * * * * * *
(85) Marginal Plan for the St. Louis 2015 8-Hour Ozone Nonattainment Area | St. Louis Area: Missouri counties of Jefferson, St. Charles, and St. Louis along with the City of St. Louis and Boles Township in Franklin County | 9/8/2021, 4/8/2022 | 2/7/2023, [insert Federal Register citation] | This action approves the Marginal nonattainment area plan for the St. Louis Area for the 2015 8-hour Ozone NAAQS [EPA-R07-OAR-2022-0880; FRL-10388-02-R7].

[FR Doc. 2023-02310 Filed 2-6-23; 8:45 am]

BILLING CODE 6560-50-P